DEPARTMENT OF HEALTH AND HUMAN SERVICES

Charter Renewal of the National Vaccine Advisory Committee

AGENCY: National Vaccine Program Office, Office of the Assistant Secretary for Health, Office of the Secretary, Department of Health and Human Services.

ACTION: Notice.

SUMMARY: The Department of Health and Human Services is hereby giving notice that the charter for the National Vaccine Advisory Committee (NVAC) has been renewed.

FOR FURTHER INFORMATION CONTACT: National Vaccine Program Office, U.S. Department of Health and Human Services, Room 715H, Hubert H. Humphrey Building, 200 Independence Avenue SW., Washington, DC 20201. Phone: (202) 690-5566; email: nvac@hhs.gov.

SUPPLEMENTARY INFORMATION: NVAC is a non-discretionary Federal advisory committee. The establishment of NVAC was mandated under Section 2105 (42 U.S.C. Section 300aa-5) of the Public Health Service Act, as amended (PHS Act). The Committee is governed by provisions of the Federal Advisory Committee Act (FACA), Public Law 92-463, as amended (5 U.S.C. App.). NVAC advises and makes recommendations to the Director, National Vaccine Program (NVP), on matters related to the Program's responsibilities. The Assistant Secretary for Health is appointed to serve as the Director, NVP.

To carry out its mission, NVAC (1) studies and recommends ways to encourage the availability of an adequate supply of safe and effective vaccination products in the United States; (2) recommends research priorities and other measures the Director of the NVP should take to enhance the safety and efficacy of vaccines; (3) advises the Director of the NVP in the implementation of Sections 2102 and 2103 of the PHS Act; and (4) identifies annually for the Director of the NVP the most important areas of governmental and non-governmental cooperation that should be considered in implementing Sections 2101 and 2103 of the PHS Act.

On July 21, 2017, the Acting Assistant Secretary for Health approved renewal of the NVAC charter with minor amendments. The new charter was effected and filed with the appropriate Congressional committees and Library of Congress on July 30, 2017. Renewal of the NVAC charter gives authorization for the Committee to continue to operate until July 30, 2019.

A copy of the NVAC charter is available on the Web site for the National Vaccine Program Office at http://www.hhs.gov/nvpo/nvac. A copy of the charter also can be obtained by accessing the FACA database that is maintained by the Committee Management Secretariat under the General Services Administration. The Web site address for the FACA database is http://www.facadatabase.gov/.

Dated: August 14, 2017.
Melinda Wharton,
Acting Director, National Vaccine Program Office.

[FR Doc. 2017-17527 Filed 8-18-17; 8:45 am]

BILLING CODE 4150-44-P